DEPARTMENT OF THE INTERIOR

Bureau of Land Management

[LLMT923000 L16100000.DP0000]

Notice of Availability of the North Dakota Greater Sage-Grouse Draft Resource Management Plan Amendment and Draft Environmental Impact Statement

AGENCY: Bureau of Land Management, Interior.

ACTION: Notice of Availability.

SUMMARY: In accordance with the National Environmental Policy Act of 1969, as amended (NEPA), and the Federal Land Policy and Management Act of 1976, as amended, the Bureau of Land Management (BLM) has prepared a North Dakota Greater Sage-Grouse (GRSG) Draft Resource Management Plan (RMP) Amendment and Draft Environmental Impact Statement (EIS) for the North Dakota Field Office and by this notice is announcing the opening of the comment period.

DATES: To ensure that comments will be considered, the BLM must receive written comments on the Draft RMP Amendment/Draft EIS within 90 days after the date the Environmental Protection Agency publishes its notice of the Draft RMP Amendment/Draft EIS in the Federal Register. The BLM will announce future meetings or hearings and any other public participation activities at least 15 days in advance through public notices, media releases, and/or mailings.

ADDRESSES: You may submit comments related to the North Dakota GRSG Draft RMP Amendment/Draft EIS by any of the following methods:

• Web site: http://www.blm.gov/mt/st/en/fo/north_dakota_field.html.

• Email: blm_mt_nd_sage_grouse@blm.gov.

• Fax: 406-896-5293.

• Mail: BLM—North Dakota Greater Sage-Grouse EIS, 5001 Southgate Drive, Billings MT 59101.

Copies of the North Dakota GRSG Draft RMP Amendment/Draft EIS are available at the North Dakota Field Office at: 99 23rd Ave. W., Dickinson, ND, or on the Web site at: http://www.blm.gov/mt/st/en/fo/north_dakota_field.html.

FOR FURTHER INFORMATION CONTACT: Ruth Miller, Team Lead, telephone 406-896-5023; see address and email above. Persons who use a telecommunications device for the deaf (TDD) may call the Federal Information Relay Service (FIRS) at 1-800-253-4093 to contact the above individual during normal business hours. The FIRS is available 24 hours a day, 7 days a week, to leave a message or question with the above individual. You will receive a reply during normal business hours.

SUPPLEMENTARY INFORMATION: The BLM prepared the North Dakota GRSG Draft RMP Amendment and Draft EIS to address a range of alternatives focused on specific conservation measures across the North Dakota range of the GRSG. This Draft RMP Amendment/Draft EIS is one of 15 separate planning efforts that are being undertaken as part of the BLM's and U.S. Forest Service's (USFS) National GRSG Planning Strategy. The Draft RMP Amendment/Draft EIS proposes to amend the North Dakota RMP. The current management decisions for resources are described in the North Dakota RMP (1988).

The planning area includes approximately 963,017 acres of BLM, USFS, U.S. Fish and Wildlife Service, State, and private lands located in southwestern North Dakota, in three counties (Bowman, Slope, and Golden Valley). Within the decision area, the BLM administers approximately 33,030 surface acres and 396,053 acres of Federal mineral (subsurface) estate. Surface management decisions made as a result of this Draft RMP Amendment/Draft EIS will apply only to the BLM-administered lands in the decision area. The decision area is defined as those BLM-administered lands and Federal mineral estate within the Planning Area, which includes two categories of habitat identified by the BLM and North Dakota Game and Fish (NDG&F):

• Preliminary Priority Habitat (PPH)—Areas identified as having the highest conservation value to maintaining sustainable GRSG populations; includes all leks in North Dakota.

• Preliminary General Habitat (PGH)—Areas of historic sage-grouse habitat, which still has some use by sage-grouse.

The formal public scoping process for the RMP Amendment/EIS began on December 9, 2011, with the publication of a Notice of Intent in the Federal Register (76 FR 77008), and ended on March 23, 2012. The BLM held one scoping open house in North Dakota in January 2011. The BLM used public scoping comments to help identify planning issues that directed the formulation of alternatives and framed the scope of analysis in the Draft RMP Amendment/Draft EIS. The scoping process was also used to introduce the public to preliminary planning criteria, which set limits on the scope of the Draft RMP Amendment/Draft EIS.

Major issues considered in the Draft RMP Amendment/Draft EIS include special status species management (GRSG specifically), energy development, lands and realty (including transmission), and livestock grazing.

The Draft RMP Amendment/Draft EIS evaluates four alternatives in detail, including the No Action Alternative (Alternative A) and three action alternatives (Alternatives B, C and D). The BLM identified Alternative D as the preferred alternative. Identification of this alternative, however, does not represent final agency direction, and the Proposed RMP Amendment may reflect changes or adjustments based on information received during public comment, from new information, or from changes in BLM policies or priorities. The Proposed RMP may include objectives and actions described in the other analyzed alternatives or otherwise within the spectrum of alternatives analyzed.

Alternative A would retain the current management goals, objectives, and direction specified in the current RMP. Alternative B includes conservation measures from the Sage-Grouse National Technical Team Report. Alternative C includes conservation measures various conservation groups submitted to the BLM. Alternative D includes conservation measures the BLM developed with the cooperating agencies.

Pursuant to 43 CFR 1610.7-2(b), this notice announces a concurrent public comment period on proposed Areas of Critical Environmental Concern (ACEC). One ACEC is proposed in Alternative C. The Sage-Grouse Habitat ACEC (approximately 32,900 acres) would include the following resource use limitations if it were formally designated:

• Close to fluid mineral leasing;

• Designate as a Right-of-Way exclusion area;

• Reduce livestock grazing;

• No roads constructed within 4 miles of a lek;

• Allow vegetation treatments only for the benefit of GRSG; and

• Recommend for withdrawal from mineral entry.

Please note that public comments and information submitted including names, street addresses and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Theresa M. Hanley,
Acting BLM Montana/Dakotas State Director.

[FR Doc. 2013-23485 Filed 9-26-13; 8:45 am]

BILLING CODE 4310-DN-P